Memorandum of July 11, 2012

Delegation of Certain Functions Under Section 570(e) of the Foreign Operations, Export Financing, and Related Programs Appropriations Act, 1997

Memorandum for the Secretary of State

Consistent with the authority vested in me as President by the Constitution and the laws of the United States of America, including section 301 of title 3, United States Code, I hereby delegate to you the function and authority specified in section 570(e) of the Foreign Operations, Export Financing, and Related Programs Appropriations Act, 1997 (Public Law 104-208) to waive and make the specified certification to the Congress regarding the prohibition on new investment in Burma under section 570(b) of the Act.

You are authorized and directed to publish this memorandum in the Federal Register.

THE WHITE HOUSE,

Washington, July 11, 2012

[FR Doc. 2012-17956

Filed 7-19-12; 11:15 am]

Billing code 4710-10-P